DEPARTMENT OF ENERGY

Federal Energy Regulatory Commission

Notice of Application for Amendment of License and Soliciting Comments, Motions To Intervene, and Protests

February 20, 2001.

Take notice that the following hydroelectric application has been filed with the Commission and is available for public inspection:

a. Application Type: Amendment of License.

b. Project No.: 1388-032.

c. Date Filed: January 12, 2000 and November 9, 2000.

d. Applicant: Southern California Edison Company (SCE).

e. Name of Project: Lee Vining Hydroelectric Project.

f. Location: On Lee Vining Creek in Mono County, California near the town of Lee Vining. The project is located within the Inyo National Forest.

g. Filed Pursuant to: Federal Power Act, 16 U.S.C. 791(a)-825(r).

h. Applicant's Contact: Stephen E. Pickett, 2244 Walnut Grove Ave., Rosemead, CA 91770, (626) 302-4459.

i. FERC Contact: Any questions on this notice should be addressed to Doan Pham at (202) 219-2851 or e-mail address doan.pham@ferc.fed.us.

j. Deadline for filing comments, motions to intervene, or protests: April 2, 2001.

All documents (original and eight copies) should be filed with: David P. Boergers, Secretary, Federal Energy Regulatory Commission, 888 First Street, NW., Washington, DC 20426. Comments and protests may be filed electronically via the internet in lieu of paper. See, 18 CFR 385.2001(a)(1)(iii) and the instructions on the Commission's web site at http://www.ferc.fed.us/efi/doorbell.htm.

Please include the Project Number (1388-032) on any comments, protests, or motions filed.

k. Description of Amendment: SCE filed an application to reflect changes in transmission line and related facilities. SCE proposes to remove the 6.4-mile transmission line (located within 30.02 acres of federal lands), extending from the Poole powerhouse to the Lee Vining Substation from the project boundary, because they are part of SCE's interconnected system. In addition, SCE proposes to reduce the boundary line to remove the following features (located within 88.00 acres of federal lands) from the project: (1) A state highway around Rhinedollar Lake, (2) telephone line, (3) the Rhinedollar 12-kV distribution line. SCE also proposes to add about 0.46 acres of federal lands to the project boundary due to the addition of a gaging station and associated conduit downstream of the powerhouse.

l. Locations of the Application: A copy of the application is available for inspection and reproduction at the Commission's Public Reference Room, located at 888 First Street, NE., Room 2A, Washington, DC 20426, or by calling (202) 208-1371. This filing may be viewed on http://www.ferc.fed.us/online/rims.htm (call (202) 208-2222 for assistance). A copy is also available for inspection and reproduction at the addresses in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “Comments”, “Recommendations for Terms and Conditions”, “Protest”, or “Motion to Intervene”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-4584 Filed 2-23-01; 8:45 am]

BILLING CODE 6717-01-M